DEPARTMENT OF COMMERCE

National Oceanic and Atmospheric Administration

RIN 0648-XM67

Western Pacific Fishery Management Council; Public Meeting

AGENCY: National Marine Fisheries Service (NMFS), National Oceanic and Atmospheric Administration (NOAA), Commerce.

ACTION: Notice of a public meeting.

SUMMARY: The Western Pacific Fishery Management Council (Council) will hold a one day meeting of its Pelagics Plan Team (PPT), in Honolulu, HI, to discuss fishery issues and develop recommendations for future management.

DATES: The meeting of the PPT will be held on January 29, 2009, from 9 a.m. to 5 p.m.

ADDRESSES: The meeting will be held at the Council Office Conference Room, Western Pacific Fishery Management Council, 1164 Bishop St., Suite 1400, Honolulu, HI 96813; telephone: (808) 522-8220.

FOR FURTHER INFORMATION CONTACT: Kitty M. Simonds, Executive Director; telephone: (808) 522-8220.

SUPPLEMENTARY INFORMATION: The PPT will meet on Thursday, January 29, 2009, at 9 a.m., to discuss the following agenda items:

1. Introduction

2. Western & Central Pacific Fishery Commission (WCPFC) Conservation and Management Measure (CMM) 2008-01, requirements for USA and participating territories.

3. Potential IATTC management measures for bigeye tuna

4. Current monitoring of USA longline bigeye catch.

5. Options for improving catch monitoring of longline bigeye catches in WCPFC/IATTC areas.

6. Required research (e.g. conversion factors from processed to whole weight) for improving the accuracy of catch estimates.

7. Implementing WCPFC Conservation & Management Measure 2008-01 catch reductions for 2009.

8. Proposed Council amendments-Shortlines in Hawaii, and Purse seining in the Pacific Remote Island Areas (PRIAs)

9. Other business

10. Public comments

11. Pelagic Plan Team Recommendations

The order in which the agenda items are addressed may change. The PPT will meet as late as necessary to complete scheduled business.

Although non-emergency issues not contained in this agenda may come before the PPT for discussion, those issues may not be the subject of formal action during these meetings. Plan Team action will be restricted to those issues specifically listed in this document and any issue arising after publication of this document that requires emergency action under section 305(c) of the Magnuson-Stevens Fishery Conservation and Management Act, provided the public has been notified of the Council(s intent to take final action to address the emergency.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: January 7, 2009.
Tracey L. Thompson,
Acting Director, Office of Sustainable Fisheries, National Marine Fisheries Service.

[FR Doc. E9-385 Filed 1-12-09; 8:45 am]

BILLING CODE 3510-22-S